DEPARTMENT OF ENERGY

Federal Energy Regulatory Commission

[Docket No. ER98-4138-002, et al.]

Potomac Electric Power Company, et al.; Electric Rate and Corporate Regulation Filings

August 2, 2002.

The following filings have been made with the Commission. The filings are listed in ascending order within each docket classification.

1. Potomac Electric Power Company

[Docket No. ER98-4138-002]

Take notice that Potomac Electric Power Company, on July 30, 2002, tendered for filing a triennial update of market-based rate authority.

Comment Date: August 20, 2002.

2. Tampa Electric Company

[Docket No. ER02-1177-002]

Take notice that on July 30, 2002, Tampa Electric Company (TEC) tendered for filing in compliance with the July 1, 2002 letter order a revised Interconnection and Operating Agreement between TEC and Auburndale Peaker Energy Center, L.L.C. as a service agreement under TEC's open access transmission tariff.

Comment Date: August 20, 2002.

3. Progress Energy Inc. on behalf of Progress Ventures, Inc.

[Docket No. ER02-2337-000]

Take notice that on July 19, 2002, Progress Ventures, Inc., (Progress Ventures) tendered for filing an executed Service Agreement between Progress Ventures and the following eligible buyer, The Energy Authority, Inc. Service to this eligible buyer will be in accordance with the terms and conditions of Progress Ventures Market-Based Rates Tariff, FERC Electric Tariff No. 1.

Progress Ventures requests an effective date of June 19, 2002 for this Service Agreement. Copies of the filing were served upon the North Carolina Utilities Commission, the South Carolina Public Service Commission, the Florida Public Service Commission and the Georgia Public Service Commission.

Comment Date: August 19, 2002.

4. Allegheny Energy Service Corporation on Behalf of Allegheny Energy Supply Company, LLC

[Docket No. ER02-2340-001]

Take notice that on July 30, 2002, Allegheny Energy Service Corporation on behalf of Allegheny Energy Supply Company, LLC (Allegheny Energy Supply) amended its filing of Service Agreement No. 156 to add one (1) new Customer to the Market Rate Tariff under which Allegheny Energy Supply offers generation services. Allegheny Energy Supply continues to request a waiver of notice requirements for an effective date of June 24, 2002 for Indianapolis Power & Light Company.

Copies of the filing have been provided to the Customer.

Comment Date: August 20, 2002.

5. Power Choice, Inc.

[Docket No. ER02-2382-000]

Take notice that on July 30, 2002, Power Choice, Inc. (Power Choice) petitioned the Federal Energy Regulatory Commission (Commission) for acceptance of Power Choice Rate Schedule FERC No. 1; the granting of certain blanket approvals, including the authority to sell electricity at market-based rates; and the waiver of certain Commission regulations.

Power Choice intends to engage in wholesale electric power and energy purchases and sales as a marketer. Power Choice is not in the business of generating or transmitting electric power. Power Choice is a Texas corporation with no affiliates.

Comment Date: August 20, 2002.

6. Allegheny Energy Unit 1 and Unit 2, L.L.C.

[Docket No. ER02-2383-000]

Take notice that on July 30, 2002, Allegheny Energy Service Corporation on behalf of Allegheny Energy Unit 1 and Unit 2, L.L.C. (Units 1 and 2, L.L.C.) filed a Notice of Cancellation of its Market-Based Rate Schedule, FERC Electric Tariff, Original Volume No. 1, Original Sheet Nos. 1-7.

Units 1 and 2, L.L.C. requests an effective date for the cancellation of June 1, 2001.

Comment Date: August 20, 2002.

7. UGI Development Company

[Docket No. ER02-2384-000]

Take notice that on July 26, 2002, UGI Development Company (UGID) tendered for filing a Second Revised Service Agreement No. 2 for wholesale power sales transactions under UGID's Wholesale Power Sales Tariff, FERC Electric Tariff First Revised Volume No. 1, by and between UGID and UGI Utilities, Inc.

UGID requests an effective date of June 30, 2001 for the Second Revised Service Agreement No. 2.

Comment Date: August 16, 2002.

8. Pinnacle West Capital Corporation

[Docket No. ER02-2385-000]

Take notice that on July 30, 2002, Pinnacle West Capital Corporation (PWCC) tendered for filing a Service Agreement, Rate Schedule FERC No. 7, under PWCC's Rate Schedule FERC No. 1 for service to Phelps Dodge Energy Services (PDES).

A copy of this filing has been served on PDES.

Comment Date: August 20, 2002.

9. Ameren Energy, Inc. on behalf of Union Electric Company d/b/a AmerenUE and Ameren Energy Generating Company

[Docket No. ER02-2386-000]

Take notice that on July 30, 2002, Ameren Energy, Inc. (Ameren Energy), on behalf of Union Electric Company d/b/a AmerenUE and Ameren Energy Generating Company (collectively, the Ameren Parties), pursuant to section 205 of the Federal Power Act, and the market rate authority granted to the Ameren Parties, submitted for filing umbrella power sales service agreements under the Ameren Parties' market rate authorizations entered into with Maclaren Energy Inc.

Ameren Energy seeks Commission acceptance of these service agreements effective July 1, 2002. Copies of this filing were served on the public utilities commissions of Illinois and Missouri and the counterparty.

Comment Date: August 20, 2002.

10. Midwest Independent Transmission System Operator, Inc.

[Docket No. ER02-2387-000]

Take notice that on July 30, 2002, the Midwest Independent Transmission System Operator, Inc. (Midwest ISO) submitted for filing a proposed Schedule 15 (Power Factor Correction Service) of the Midwest ISO's Open Access Transmission Tariff (OATT), which, among other things, requires a Transmission Customer supplying capacity and energy to loads within the Midwest ISO's Control Area to maintain a power factor within the same range as applicable to comparably configured and located loads on the Transmission System.

The Midwest ISO has electronically served a copy of this filing upon all Midwest ISO Members, Member representatives of Transmission Owners and Non-Transmission Owners, the Midwest ISO Advisory Committee participants, Policy Subcommittee participants, as well as all state commissions within the region. In addition, the filing has been electronically posted on the Midwest ISO's website at www.midwestiso.org under the heading “Filings to FERC” for other interested parties in this matter. The Midwest ISO will provide hard copies to any interested parties upon request.

Comment Date: August 20, 2002.

Standard Paragraph

E. Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Linwood A. Watson, Jr.,
Deputy Secretary.

[FR Doc. 02-20285 Filed 8-9-02; 8:45 am]

BILLING CODE 6717-01-P